DEPARTMENT OF THE INTERIOR

Bureau of Land Management

[NV-025-1220-PC; 8-08807]

Notice of Proposed Supplementary Rules on Public Land in Nevada

AGENCY: Bureau of Land Management, Interior.

ACTION: Proposed supplementary rules for certain public lands managed by the Bureau of Land Management, Black Rock Desert-High Rock Canyon Emigrant Trails National Conservation Area, associated congressionally-designated wilderness and other contiguous lands, in Humboldt, Pershing and Washoe counties, Nevada.

SUMMARY: The Bureau of Land Management (BLM) Winnemucca Field Office, Nevada, and Surprise Field Office, California, are proposing supplementary rules for the Black Rock Desert-High Rock Canyon Emigrant Trails National Conservation Area (NCA), associated designated wilderness, and other contiguous lands as identified in the Resource Management Plan (RMP) and Record of Decision. The rules are needed in order to protect the area's natural and cultural resources and provide for public health and safety on public lands. These rules do not propose or implement any land use limitation or restrictions other than those limitations or restrictions included within the decisions in the RMP or allowed for by existing law or regulation.

DATES: Comments on the proposed supplementary rules must be received or postmarked by December 10, 2007 to be assured consideration. In developing final supplementary rules, BLM need not consider comments postmarked or received in person or by electronic mail after this date.

ADDRESSES: Bureau of Land Management, Winnemucca Field Office, Attn: Dave Cooper, 1500 E. Winnemucca Blvd., Winnemucca, NV 89445-2921.

Internet e-mail: dave_cooper@nv.blm.gov.

FOR FURTHER INFORMATION CONTACT: Dave Cooper, NCA Manager, Winnemucca Field Office, 1500 E. Winnemucca Blvd., Winnemucca, NV 89445-2921, telephone 775-623-1500.

SUPPLEMENTARY INFORMATION:

I. Procedures for Submitting Comments

Comments on the proposed supplementary rules should be specific, should be confined to issues pertinent to the proposed supplementary rules and should explain the reason for any recommended change. Where possible, comments should reference the specific section or paragraph of the proposal addressed. Comments received after the close of the comment period (see DATES) or delivered to an address other than those listed above (see ADDRESSES) may not be considered or included in the administrative record for the final rule.

Before including your address, phone number, e-mail address, or other personal identifying information in your comment, you should be aware that your entire comment—including your personal identifying information—may be made publicly available at any time. While you can ask us in your comment to withhold your personal identifying information from public review, we cannot guarantee that we will be able to do so.

II. Background

The Black Rock Desert-High Rock Canyon Emigrant Trails National Conservation Area and associated wilderness was created by Congress on December 21, 2000 (Pub. L. 106-554).

BLM has already completed substantial public participation and coordination during the development of the collaborative RMP for the NCA, associated wilderness, and other contiguous lands in Nevada. This public participation included the following: Eight scoping and collaborative planning workshops; five public comment meetings; ten Resource Advisory Council subgroup meetings; six meetings with the State of Nevada Black Rock Planning team; eight tribal consultation meetings with six different Indian tribes; and receipt and analysis of some 4,529 comments. Therefore, BLM is limiting the public comment period for these proposed supplementary rules to 30 days as a result of this extensive outreach.

III. Discussion of Proposed Supplementary Rules

These supplementary rules will apply to the public lands within the boundary of the planning area for the Black Rock Desert-High Rock Canyon Emigrant Trails National Conservation Area, associated wilderness, and other contiguous lands as set forth in the RMP. BLM has determined these rules to be necessary to protect the area's natural and cultural resources, to provide for public health and safety, reduce user conflict, enhance the experience of the visitor, and reduce the potential for damage to the environment. These rules do not propose or implement any land use limitations or restrictions other than those limitations or restrictions included within the decisions in the RMP or allowed for by existing law or regulation.

Some of the proposed supplementary rules make reference to designated camping areas, routes and trails, management zones, etc. Those designations were developed as part of the collaborative resource management planning process for the NCA, and associated wilderness, and other contiguous lands in Nevada, which resulted in adoption of the plan in July 2004. A map showing the lands to which these proposed supplementary rules will apply, all lands within the planning area, can be found in the RMP at Section 1.3 and as shown at Map 1.1, or can be obtained at the address listed above.

IV. Procedural Matters

Executive Order 12866, Regulatory Planning and Review

These proposed supplementary rules are not a significant regulatory action and are not subject to review by Office of Management and Budget under Executive Order 12866. These proposed supplementary rules will not have an annual effect of $100 million or more on the economy. They will not adversely affect in a material way the economy, productivity, competition, jobs, environment, public health or safety, or state, local, or tribal governments or communities. These proposed supplementary rules will not create a serious inconsistency or otherwise interfere with an action taken or planned by another agency. These proposed supplementary rules do not alter the budgetary effects of entitlements, grants, user fees, or loan programs or the rights or obligations of their recipients; nor do they raise novel legal or policy issues. They impose rules of conduct and impose other limitations on certain recreational activities within the NCA, associated wilderness, and other contiguous lands in Nevada to protect natural and cultural resources and human health and safety.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules in the SUPPLEMENTARY INFORMATION section of this preamble helpful to your understanding of the proposed supplementary rules? How could this description be more helpful in making the proposed supplementary rules easier to understand?

Please send any comments you have on the clarity of the supplementary rules to the address specified in the ADDRESSES section.

National Environmental Policy Act

BLM prepared an environmental impact statement as part of the development of the RMP. During that National Environmental Policy Act process, many proposed decisions were fully analyzed, including the rules that will be made enforceable by implementation of each of these supplemental rules. These rules were analyzed in Chapter 2, Alternatives, of the Proposed Resource Management Plan and Final Environmental Impact Statement for the Black Rock Desert-High Rock Canyon Emigrant Trails National Conservation Area (NCA) and Associated Wilderness, and Other Contiguous Lands in Nevada published in September 2003. The Record of Decision for the RMP was signed by the BLM State Directors of Nevada and California on July 15, 2004. These supplementary rules provide for enforcement of plan decisions. The rationale for the decisions made in the plan is fully covered in the EIS. The EIS is available for review in the BLM administrative record at the address specified in the ADDRESSES section.

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. These proposed supplementary rules should have little or no economic effect on entities of whatever size. They would impose reasonable restrictions on certain recreational activities in the NCA, associated wilderness and contiguous lands to protect natural and cultural resources, the environment, and human health and safety. Therefore, BLM has determined under the RFA that these proposed supplementary rules do not require preparation of a regulatory flexibility analysis.

Small Business Regulatory Enforcement Fairness Act (SBREFA)

These proposed supplementary rules are not a “major rule” as defined at 5 U.S.C. 804(2). They would not result in an annual effect on the economy of $100 million or more, in a major increase in costs or prices, or in significant adverse effects on competition, employment, investment, productivity, innovation, or on the ability of United States-based enterprises to compete with foreign-based enterprises in domestic and export markets. They would merely impose reasonable restrictions on certain recreational activities in the NCA, associated wilderness and contiguous lands to protect natural and cultural resources, the environment, and human health and safety.

Unfunded Mandates Reform Act

These proposed supplementary rules do not impose an unfunded mandate on state, local, or tribal governments, in the aggregate, or the private sector, of more than $100 million per year. The proposed supplementary rules also would not have a significant or unique effect on small governments. They would impose reasonable restrictions on certain recreational activities in the NCA, associated wilderness, and contiguous lands to protect natural and cultural resources, the environment and human health and safety. Therefore, BLM is not required to prepare a statement containing the information required by the Unfunded Mandates Reform Act (2 U.S.C. 1532 et seq.).

Executive Order 12630, Governmental Actions and Interference with Constitutionally Protected Property Rights (Takings)

The proposed supplementary rules are not a government action capable of interfering with constitutionally protected property rights. The proposed supplementary rules would have no effect on private lands or property, other than property that is abandoned. Therefore, the BLM has determined that the rule would not cause a taking of private property or require preparation of a takings assessment under this Executive Order.

Executive Order 13132, Federalism

The proposed supplementary rules would not have a substantial direct effect on the states, on the relationship between the national government and the states, or on the distribution of power and responsibilities among the various levels of government. The proposed supplementary rules would have little or no effect on state or local government. Therefore, in accordance with Executive Order 13132, BLM has determined that these proposed supplementary rules do not have sufficient Federalism implications to warrant preparation of a Federalism Assessment.

Executive Order 12988, Civil Justice Reform

Under Executive Order 12988, BLM determined that these proposed supplementary rules would not unduly burden the judicial system and that they meet the requirements of sections 3(a) and 3(b)(2) of the Order.

Executive Order 13175, Consultation and Coordination with Indian Tribal Governments: These supplementary rules provide for enforcement of decisions adopted in the Record of Decision and thoroughly analyzed in the EIS prepared for the Black Rock Desert-High Rock Canyon Emigrant Trails National Conservation Area associated wilderness, and other contiguous lands in Nevada. During preparation of the EIS, government-to-government consultation was conducted with the six tribal governments with interests in the affected area. None of these tribal governments expressed concerns regarding the decisions the proposed supplementary rules are designed to enforce. Therefore, in accordance with Executive Order 13175, BLM has found that these proposed supplementary rules do not include policies that have tribal implications.

Paperwork Reduction Act

These proposed supplementary rules do not contain information collection requirements that the Office of Management and Budget must approve under the Paperwork Reduction Act of 1995, 44 U.S.C. 3501 et seq.

Proposed Supplementary Rules for the Black Rock Desert—High Rock Canyon Emigrant Trails National Conservation Area and Associated Wilderness, and Other Contiguous Lands in Nevada

Under 43 CFR 8365.1-6, the Bureau of Land Management proposes to establish the following rules on all public lands within the RMP boundary as shown in the RMP at Section 1.3 and as shown at Map 1.1, RMP Reference Map.

Section 1, Prohibited Acts/Rules

1. Unless otherwise prohibited, you may pull off designated roads and trails a maximum of 50 feet from the center of the road/trail for parking or camping if damage to vegetation will be minimal and new parallel roads will not be created.

2. You must not possess, destroy, deface, dig, or remove petrified wood, common invertebrate fossils, rocks or minerals without a permit in an area otherwise closed to collecting these resources.

3. You must not collect petrified wood, common invertebrate fossils, rocks or minerals with motorized equipment.

4. You must not collect more than 25 pounds per day plus one piece, with a maximum collection of 250 pounds per year, of petrified wood. Similar limits apply to each of the following: Common invertebrate fossils, rocks, and minerals.

5. You must not rock climb within the boundaries of the High Rock Canyon Area of Critical Environmental Concern (ACEC).

6. You must not camp with a vehicle anywhere other than in designated sites in the following areas: High Rock Canyon ACEC, the Lahontan Cutthroat Trout Area, Class A and B trail segments of the Emigrant Trails, Stevens Camp, Trego Hot Springs, Massacre Ranch and Mud Meadows areas, and the Front Country Management zone with the exception of the Black Rock Desert playa.

7. You must not build, maintain or use a campfire on the Black Rock Desert playa or adjacent dune areas without the use of a surface protecting device.

8. You must not camp outside designated sites within the Soldier Meadows ACEC.

9. You must not camp within 100 yards of a water hole in such a manner that wildlife or domestic stock will be denied access to such water hole, unless campsites are designated by BLM within this 100-yard area.

10. An authorization by the authorized officer, whether by permit or other written means to use public lands in the NCA, associated wilderness, and other contiguous lands, may contain reasonable restrictions necessary to preserve and protect public lands and their resources, and to minimize interference with and inconvenience to other visitors. You must follow the terms, conditions, and stipulations of your authorization.

Section 2, Definitions

Camping—Erecting a tent or a shelter of natural or synthetic material, preparing a sleeping bag or other bedding material for use, or parking of a motor vehicle, motor home, or trailer for overnight occupancy.

Common invertebrate fossil—Any fossilized marine life form without a spinal column, including snails, corals, diatoms, fusulinds, and clams.

Designated site—Specific location identified by BLM for camping or other purposes.

Designated roads and trails—Roads and trails open to motorized vehicle use and identified on a map of designated roads and trails that is maintained and available for public inspection at the Winnemucca Field Office, Winnemucca, Nevada and the Surprise Field Office, Cedarville, California. Designated roads and motorized trails are open to public use in accordance with such limits and restrictions as are or may be specified in the RMP or in future decisions implementing the RMP. However, any road or trail with any restrictive signing or physical barrier, including gates, posts, branches, or rocks intended to prevent use of the road or trail is not a designated motorized road or motorized trail.

Management zone—The three administrative designations into which the NCA, associated wilderness, and contiguous lands have been divided for management purposes as depicted on the Visitor Use Management Zones Map (RMP, map 2-13). Each management zone has a unique set of objectives and management decisions as described below.

Front country zone—A management zone encompassing those lands that are intended to be the focal point for visitation where visitor accommodations would be made to provide primary interpretation, overlooks, trails, and associated facilities necessary to highlight resources and features of the NCA.

Rustic zone—Those lands that are intended to provide an undeveloped, primitive, and self-directed visitor experience while accommodating motorized and mechanized access on designated routes, and where facilities are rare and provided only where essential for resource protection.

Wilderness zone—Those lands that are intended to provide an undeveloped, primitive, and self-directed visitor experience without motorized or mechanized access and where facilities are nonexistent.

Motorized equipment—Any machine that uses or is activated by a motor, engine, or other non-living power source.

Motorized vehicle—Any vehicle that is self-propelled by a non-living power source, including electric power, but not operated upon rails or upon water.

Rock climbing—Ascending or descending a rock face using rope and devices such as pitons, bolts, chocks, camming devices, webbing, etc.

Surface protecting device—A device to prevent campfires from coming into direct contact with the ground surface, such as an elevated platform, open grill, fire blanket, or fire pan. No scars should be visible after the fire has been extinguished.

Vehicle—Every device in, upon, or by which a person or property is or may be transported or drawn on land, except devices used exclusively upon stationary rails or track.

Vehicle camping—Parking of a motor vehicle, motor home, or trailer for the purpose of overnight occupancy within one-fourth mile of the parked vehicle, motor home, or trailer.

Water hole—Any spring, seep, or other water source used by wildlife or domestic stock.

Penalties

Under section 303(a) of the Federal Land Policy and Management Act of 1976, 43 U.S.C. 1733(a) and 43 CFR 8360.0-7 and 8365.1-6, violation of any of these supplementary rules on public lands within the boundaries established in the rules, may result in a trial before a United States Magistrate and may be punishable by a fine of no more than $1,000, or imprisonment for no more than 12 months, or both. Such violations may also be subject to the enhanced fines provided by 18 U.S.C. 3571(b)(5).

Dated: July 2, 2007.
Ron Wenker,
BLM State Director, Nevada.
Dated: July 16, 2007.
Mike Pool,
BLM State Director, California.

Editorial Note: This document was received at the Office of the Federal Register on November 6, 2007.

[FR Doc. E7-22001 Filed 11-8-07; 8:45 am]

BILLING CODE 4310-HC-P